NUCLEAR REGULATORY COMMISSION

Advisory Committee on Reactor Safeguards (ACRS), Meeting of the ACRS, Subcommittee on ABWR, Cancellation of the January 16, 2013, ACRS Subcommittee Meeting

The ACRS Subcommittee meeting on ABWR scheduled for January 16, 2013 has been cancelled.

The notice of this meeting was previously published in the Federal Register on Wednesday, December 26, 2012, (77 FR 76089-76090).

Information regarding this meeting can be obtained by contacting Maitri Banerjee, Designated Federal Official (DFO) (Telephone 301-415-6973 or Email: Maitri.Banerjee@nrc.gov) between 7:00 a.m. and 4:45 p.m. (EST)).

Dated: January 8, 2013.
Antonio Dias,
Technical Advisor, Advisory Committee on Reactor Safeguards.

[FR Doc. 2013-00545 Filed 1-11-13; 8:45 am]

BILLING CODE 7590-01-P